DEPARTMENT OF VETERANS AFFAIRS

38 CFR Part 3

RIN 2900-AN32

Stressor Determinations for Posttraumatic Stress Disorder

Correction

In rule document 2010-16885 beginning on page 39843 in the issue of Tuesday, July 13, 2010 make the following corrections:

1. On page 39843, in the first column, under the DATES section, in the second line, “July 12, 2010” should read “July 13, 2010”.

2. On the same page, in the same column, under the DATES section, in the first bulleted paragraph, in the first and second lines, “July 12, 2010” should read “July 13, 2010”.

3. On the same page, in the same column, under the DATES section, in the second bulleted paragraph, in the first and second lines, “July 12, 2010” should read “July 13, 2010”.

4. On the same page, in the same column, under the DATES section, in the third bulleted paragraph, in the third line, “July 12, 2010” should read “July 13, 2010”.

5. On the same page, in the same column, under the DATES section, in the fourth bulleted paragraph, in the second line, “July 12, 2010” should read “July 13, 2010”.

6. On the same page, in the second column, under the DATES section, in the first bulleted paragraph in the column, in the second line, “July 12, 2010” should read “July 13, 2010”.

7. On page 39851, in the second column, in the sixth line from the bottom, “July 12, 2010” should read “July 13, 2010”.

8. On the same page, in the third column, in the 15th line from the top, “July 12, 2010” should read “July 13, 2010”.

9. On page 39852, in the third column, in the file line, the file date “7-9-10” is corrected to read “7-12-10”.

[FR Doc. C1-2010-16885 Filed 7-14-10; 8:45 am]

BILLING CODE 1505-01-D